DEPARTMENT OF ENERGY

Federal Energy Regulatory Commission

Combined Notice of Filings #2

Take notice that the Commission received the following electric corporate filings:

Docket Numbers: EC17-82-000.

Applicants: Cimarron Bend Assets, LLC, Cimarron Bend Wind Project II, LLC.

Description: Application for Authorization under Section 203 of the Federal Power Act, Request for Expedited Consideration and Confidential Treatment of Cimarron Bend Assets, LLC, et. al.

Filed Date: 2/17/17.

Accession Number: 20170217-5168.

Comments Due: 5 p.m. ET 3/10/17.

Take notice that the Commission received the following electric rate filings:

Docket Numbers: ER17-994-000.

Applicants: PJM Interconnection, L.L.C.

Description: Compliance filing: Notice of Cancellation of Service Agreement Nos. 1873 and 1874 under ER08-858 to be effective N/A.

Filed Date: 2/17/17.

Accession Number: 20170217-5106.

Comments Due: 5 p.m. ET 3/10/17.

Docket Numbers: ER17-995-000.

Applicants: PacifiCorp.

Description: § 205(d) Rate Filing: PRECorp Transmission IC Agreement to be effective 4/19/2017.

Filed Date: 2/17/17.

Accession Number: 20170217-5142.

Comments Due: 5 p.m. ET 3/10/17.

Docket Numbers: ER17-996-000.

Applicants: New York Independent System Operator, Inc.

Description: Compliance filing: Compliance re: Exempt new SCRs from BSM rules to be effective 2/3/2017.

Filed Date: 2/17/17.

Accession Number: 20170217-5155.

Comments Due: 5 p.m. ET 3/10/17.

Docket Numbers: ER17-997-000.

Applicants: Alabama Power Company.

Description: § 205(d) Rate Filing: Albany Green LGIA Amendment Filing to be effective 2/9/2017.

Filed Date: 2/17/17.

Accession Number: 20170217-5171.

Comments Due: 5 p.m. ET 3/10/17.

Docket Numbers: ER17-998-000.

Applicants: DATC Path 15, LLC.

Description: § 205(d) Rate Filing: Second Revised Appendix I 2017 to be effective 4/20/2017.

Filed Date: 2/17/17.

Accession Number: 20170217-5186.

Comments Due: 5 p.m. ET 3/10/17.

Docket Numbers: ER17-999-000.

Applicants: Midcontinent Independent System Operator, Inc.

Description: § 205(d) Rate Filing: 2017-02-17_SA 3002 Hawks Nest Lake TIA to be effective 2/3/2017.

Filed Date: 2/17/17.

Accession Number: 20170217-5202.

Comments Due: 5 p.m. ET 3/10/17.

Docket Numbers: ER17-1000-000.

Applicants: Midcontinent Independent System Operator, Inc.

Description: § 205(d) Rate Filing: 2017-02-17_SA 3000 Exelon-MISO ENRIS (J374) to be effective 2/6/2017.

Filed Date: 2/17/17.

Accession Number: 20170217-5204.

Comments Due: 5 p.m. ET 3/10/17.

Take notice that the Commission received the following electric securities filings:

Docket Numbers: ES17-14-000.

Applicants: Northern Maine Independent System Administrator, Inc.

Description: Application of the Northern Maine Independent System Administrator, Inc. for Authorization to Issue Securities Pursuant to Section 204 of the Federal Power Act.

Filed Date: 2/17/17.

Accession Number: 20170217-5175.

Comments Due: 5 p.m. ET 3/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2017.
Nathaniel J. Davis, Sr.,
Deputy Secretary.

[FR Doc. 2017-03588 Filed 2-23-17; 8:45 am]

BILLING CODE 6717-01-P